DEPARTMENT OF COMMERCE

National Oceanic and Atmospheric Administration

Proposed Information Collection; Comment Request; Prohibited Species Donation Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 14, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instruments and instructions should be directed to Patsy A. Bearden, (907) 586-7008 or patsy.bearden@noaa.gov.

SUPPLEMENTARY INFORMATION:

I. Abstract

The National Marine Fisheries Service (NMFS), Alaska Region seeks to renew a collection of information for the continued management of the Prohibited Species Donation Program (PSD Program). Certain incidental catch of prohibited species, salmon and Pacific halibut, cannot be retained by fishing vessels due to management controls, and such prohibited species are usually discarded. Under the PSD Program, these fish may be donated to certain tax exempt groups for distribution to needy individuals. NMFS uses the information on the PSD distributor application to determine an organization's nonprofit status. In addition, the application provides information about the ability of the organization to arrange for and distribute donated salmon and Pacific halibut as a high quality food product. If the application requests distribution of more than one type of prohibited species, complete information must be supplied for each species, noting any differences in procedure. NMFS publishes notice of the selection of PSD distributors in the Federal Register. The reporting documentation is required to monitor the PSD Program and to ensure that donations go to authorized parties for legitimate purposes.

II. Method of Collection

The application to become a PSD distributor is submitted to NMFS as a letter, which can be mailed or attached to an e-mail. Processor and distributor maintain records required to track salmon and Pacific halibut retained under the PSD Program, and distributors keep updated lists of program participants.

III. Data

OMB Number: 0648-0316.

Form Number: None.

Type of Review: Regular submission.

Affected Public: Not-for-profit institutions.

Estimated Number of Respondents: 21.

Estimated Time Per Response: 40 hours for an application to become a NMFS authorized distributor; 12 minutes for Distributor's List of PSD Program Participants; 12 minutes for Distributor's product monitoring and retention of records; and 6 minutes for labeling, product tracking, and retention of records by processor.

Estimated Total Annual Burden Hours: 229.

Estimated Total Annual Cost to Public: $ 0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 7, 2007.
Gwellnar Banks,
Management Analyst, Office of the Chief Information Officer.

[FR Doc. E7-22230 Filed 11-13-07; 8:45 am]

BILLING CODE 3510-22-P